DEPARTMENT OF ENERGY

Federal Energy Regulatory Commission

[RT01-99-000, RT01-99-001, RT01-99-002 and RT01-99-003; RT01-86-000, RT01-86-001 and RT01-86-002; RT01-95-000, RT01-95-001 and RT01-95-002; RT01-2-000, RT01-2-001, RT01-2-002 and RT01-2-003; RT01-98-000; RT02-3-000]

Regional Transmission Organizations; Bangor Hydro-Electric Company, et al.; New York Independent System Operator, Inc., et al.; PJM Interconnection, L.L.C., et al.; PJM Interconnection, L.L.C.; ISO New England, Inc.; New York Independent System Operator, Inc.; Notice of Filing

April 21, 2008.

Take notice that PJM Interconnection, L.L.C., New York Independent System Operator, Inc. and ISO New England, Inc. have posted on their internet Web sites information updating their progress on the resolution of RTO seams.

Any person desiring to file comments on this information should file with the Federal Energy Regulatory Commission, 888 First Street, NE., Washington, DC 20426, in accordance with Rules 211 and 214 of the Commission's Rules of Practice and Procedure (18 CFR 385.211 and 385.214). All such comments should be filed on or before the comment date. Comments may be filed electronically via the Internet in lieu of paper; see 18 CFR 385.2001(a)(1)(iii) and the instructions on the Commission's Web site under the “e-Filing” link. The Commission strongly encourages electronic filings.

Comment Date: May 13, 2008.

Kimberly D. Bose,
Secretary.

[FR Doc. E8-9300 Filed 4-28-08; 8:45 am]

BILLING CODE 6717-01-P